DEPARTMENT OF THE TREASURY

Internal Revenue Service

Open Meeting of the Taxpayer Advocacy Panel Taxpayer Assistance Center Project Committee

AGENCY: Internal Revenue Service (IRS) Treasury.

ACTION: Notice of meeting.

SUMMARY: Notice is hereby given for an open meeting of the Taxpayer Advocacy Panel Taxpayer Assistance Center Project Committee scheduled for Monday, March 23, 2020 and Tuesday, March 24, 2020. This meeting was originally published in the Federal Register on March 9, 2020, (Volume 85, Number 46, Page 13706) as a face to face meeting. Out of an abundance of caution, certain government travel has been temporarily suspended. Due to these circumstances, we will not be able to meet the 15-calendar notice threshold. This meeting will now proceed via teleconference.

DATES: The meeting will be held Monday, March 23, 2020 and Tuesday, March 24, 2020.

FOR FURTHER INFORMATION CONTACT: Matthew O'Sullivan at 1-888-912-1227 or (510) 907-5274.

SUPPLEMENTARY INFORMATION: Notice is hereby given pursuant to Section 10(a)(2) of the Federal Advisory Committee Act, 5 U.S.C. App. (1988) that an open meeting of the Taxpayer Advocacy Panel's Taxpayer Assistance Center Project Committee will be held Monday, March 23, 2020, from 1:00 p.m. to 3:00 p.m. Eastern Time and Tuesday, March 24, 2020, from 1:00 p.m. until 3:00 p.m. Eastern Time. The public is invited to make oral comments or submit written statements for consideration. Due to limited time and structure of meeting, notification of intent to participate must be made with Matthew O'Sullivan. For more information please contact Matthew O'Sullivan at 1-888-912-1227 or (510) 907-5274, or write TAP Office, 1301 Clay Street, Oakland, CA 94612-5217 or contact us at the website: http://www.improveirs.org. The agenda will include various IRS issues.

Dated: March 12, 2020.
Kevin Brown,
Acting Director, Taxpayer Advocacy Panel.

[FR Doc. 2020-05657 Filed 3-17-20; 8:45 am]

BILLING CODE 4830-01-P